DEPARTMENT OF AGRICULTURE

U.S. Codex Office

Codex Alimentarius Commission: Meeting of the Codex Alimentarius Commission

AGENCY: U.S. Codex Office, USDA.

ACTION: Notice of public meeting and request for comments.

SUMMARY: The U.S Codex Office is sponsoring a public meeting on June 25, 2020. The objective of the public meeting is to provide information and receive public comments on agenda items and draft United States (U.S.) positions for the 43rd Session of the of the Codex Alimentarius Commission (CAC). The CAC will not be meeting physically during its previously scheduled dates in July 2020 due to the COVID-19 pandemic, and it is currently preparing for the possibility of convening for a virtual Commission session. The U.S. Manager for Codex Alimentarius and the Under Secretary for Trade and Foreign Agricultural Affairs recognize the importance of providing interested parties the opportunity to obtain background information on the 43rd Session of the CAC and to address items on the agenda.

DATES: The public meeting is scheduled for June 25, 2020, from 1:00-4:00 p.m. EDT.

ADDRESSES: If you wish to participate in the public meeting for the 43rd Session of the CAC, the meeting will be conducted by conference call only to be consistent with public health guidance related to outbreaks of novel coronavirus (COVID-19). Documents related to the 43rd Session of the CAC will be accessible via the internet at the following address: http://www.fao.org/fao-who-codexalimentarius/meetings/detail/en/?meeting=CAC&session=43.

Mary Frances Lowe, U.S. Delegate to the 43rd Session of the CAC, invites U.S. interested parties to submit their comments electronically to the following email address: uscodex@usda.gov.

Call-In-Number: If you wish to participate in the public meeting for the 43rd Session of the CAC by conference call, please use the call-in-number: 1-888-844-9904 and participant code 5126092#.

Registration: Participants should register to participate in the public meeting as described above by submitting their name and organizational affiliation to uscodex@usda.gov.

For further information about the 43rd Session of the CAC or the public meeting, please contact the U.S. Codex Office, 1400 Independence Avenue SW, Room 4861, South Agriculture Building, Washington, DC 20250, Telephone: (202) 205-7760, Fax: (202) 720-3157, Email: uscodex@usda.gov.

SUPPLEMENTARY INFORMATION:

Background

The Codex Alimentarius was established in 1963 by two United Nations organizations, the Food and Agriculture Organization and the World Health Organization. Through adoption of food standards, codes of practice, and other guidelines developed by its committees, and by promoting their adoption and implementation by governments, Codex seeks to protect the health of consumers and ensure fair practices in the food trade; promotes coordination of all food standards work undertaken by international governmental and nongovernmental organizations; determines priorities, initiates, and guides the preparation of draft standards; finalizes the standards elaborated and publishes them in a Codex Alimentarius (food code) either as regional or worldwide standards, wherever this is practicable; and amends published standards, as appropriate, in the light of new developments.

Issues To Be Discussed at the Public Meeting

Currently, there is no agenda available for the 43rd Session of the CAC. However, the Codex Secretariat has made available the following documents to be considered, including:

• Amendments to the Procedural Manual

• Final Adoption of Codex Texts

• Adoption of Codex Texts at Step 5

• Revocation of Codex Texts

• Proposals for New Work

• Discontinuation of Work

• Amendments to the Codex Standards and Related Texts

These documents are currently available at: http://www.fao.org/fao-who-codexalimentarius/meetings/detail/en/?meeting=CAC&session=43.

Each issue listed will be fully described in documents distributed, or to be distributed, by the Codex Secretariat before the CAC session. Members of the public may access or request copies of these documents (see ADDRESSES).

Public Meeting

At the June 25, 2020, public meeting, draft U.S. positions on the anticipated agenda items will be described and discussed, and attendees will have the opportunity to pose questions and offer comments. Written comments may be offered at the meeting or sent to the U.S. Delegate for the 43rd Session of the CAC (see ADDRESSES). Written comments should state that they relate to activities of the 43rd Session of the CAC.

Additional Public Notification

Public awareness of all segments of rulemaking and policy development is important. Consequently, the U.S. Codex Office will announce this Federal Register publication on-line through the USDA web page located at: http://www.usda.gov/codex/, a link that also offers an email subscription service providing access to information related to Codex. Customers can add or delete their subscription themselves and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative. Send your completed complaint form or letter to USDA by mail, fax, or email.

Mail: U.S. Department of Agriculture, Director, Office of Adjudication, 1400 Independence Avenue SW, Washington, DC 20250-9410.

Fax: (202) 690-7442, Email: program.intake@usda.gov.

Persons with disabilities who require alternative means for communication (Braille, large print, audiotape, etc.) should contact USDA's TARGET Center at (202) 720-2600 (voice and TDD).

Done at Washington, DC, on June 12, 2020.
Mary Lowe,
U.S. Manager for Codex Alimentarius.

[FR Doc. 2020-13165 Filed 6-17-20; 8:45 am]

BILLING CODE P